COMMITTEE FOR PURCHASE FROM PEOPLE WHO ARE BLIND OR SEVERELY DISABLED

Procurement List Proposed Additions and Deletions

AGENCY: Committee for Purchase from People Who Are Blind or Severely Disabled.

ACTION: Proposed additions to and deletions from Procurement List.

SUMMARY: The Committee is proposing to add to the Procurement List products and services to be furnished by nonprofit agencies employing persons who are blind or have other severe disabilities, and to delete products previously furnished by such agencies.

DATES: Comments must be received on or before: October 17, 2004.

ADDRESSES: Committee for Purchase from People Who Are Blind or Severely Disabled, Jefferson Plaza 2, Suite 10800, 1421 Jefferson Davis Highway, Arlington, Virginia, 22202-3259.

FOR FURTHER INFORMATION CONTACT: Sheryl D. Kennerly, (703) 603-7740.

SUPPLEMENTARY INFORMATION: This notice is published pursuant to 41 U.S.C 47(a)(2) and 41 CFR 51-2.3. Its purpose is to provide interested persons an opportunity to submit comments on the proposed actions.

Additions

If the Committee approves the proposed additions, the entities of the Federal Government identified in this notice for each product or service will be required to procure the products and services listed below from nonprofit agencies employing persons who are blind or have other severe disabilities.

Regulatory Flexibility Act Certification

I certify that the following action will not have a significant impact on a substantial number of small entities. The major factors considered for this certification were:

1. If approved, the action will not result in any additional reporting, recordkeeping or other compliance requirements for small entities other than the small organizations that will furnish the products and services to the Government.

2. If approved, the action will result in authorizing small entities to furnish the products and services to the Government.

3. There are no known regulatory alternatives which would accomplish the objectives of the Javits-Wagner-O'Day Act (41 U.S.C. 46-48c) in connection with the products and services proposed for addition to the Procurement List. Comments on this certification are invited. Commenters should identify the statement(s) underlying the certification on which they are providing additional information.

End of Certification

The following products and services are proposed for addition to Procurement List for production by the nonprofit agencies listed:

Products

Product/NSN: F-15 Fuel Tank Foam Kits,

1560-01-509-2207FX (#1 Fuel Tank Foam Kit),

1560-01-509-2208FX (#2 Fuel Tank Foam Kit),

1560-01-509-2210FX (#3A Fuel Tank Foam Kit),

1560-01-509-2214FX (Right Auxiliary Fuel Tank Foam Kit),

1560-01-509-2216FX (#1 Fuel Tank Foam Kit),

1560-01-509-2219FX (#3A Fuel Tank Foam Kit),

1560-01-509-2222FX (#3B Fuel Tank Foam Kit),

1560-01-509-2224FX (Right Auxiliary Fuel Tank Foam Kit),

1560-01-509-2225FX (#3B Fuel Tank Foam Kit),

1560-01-509-2653FX (#3A Fuel Tank Foam Kit),

1560-01-509-2654FX (#1 Fuel Tank Foam Kit),

1560-01-509-2658FX (Left Auxiliary Fuel Tank Foam Kit),

1560-01-509-3744FX (#1 Fuel Tank Foam Kit).

NPA: Middle Georgia Diversified Industries, Inc., Dublin, Georgia.

Contract Activity: Warner Robins Air Logistics Center/LFK, Robins AFB, Georgia.

Services

Service Type/Location: Custodial Services, Center for Information Services (CIS) Data Center, 1137 Branchton Road, Boyers, Pennsylvania.

NPA: The Easter Seal Society of Western Pennsylvania, Pittsburgh, Pennsylvania.

Contract Activity: Office of Personnel Management, Washington, DC.

Service Type/Location: Laundry Service, Alien Detention & Removal (ADR), Immigration & Customs, Enforcement (IEC), and Customs & Border Protection (CBP), San Diego, California.

NPA: Job Options, Inc., San Diego, California.

Contract Activity: Department of Homeland Security, Laguna Niguel, California.

Deletions

Regulatory Flexibility Act Certification

I certify that the following action will not have a significant impact on a substantial number of small entities. The major factors considered for this certification were:

1. If approved, the action may result in additional reporting, recordkeeping or other compliance requirements for small entities.

2. If approved, the action may result in authorizing small entities to furnish the products to the Government.

3. There are no known regulatory alternatives which would accomplish the objectives of the Javits-Wagner-O'Day Act (41 U.S.C. 46-48c) in connection with the products proposed for deletion from the Procurement List.

End of Certification

The following products are proposed for deletion from the Procurement List:

Products

Product/NSN: Cleaner, Multi-Purpose,

7930-01-398-0938.

NPA: Lighthouse for the Blind, St. Louis, Missouri.

Contract Activity: GSA, Southwest Supply Center, Fort Worth, Texas.

Product/NSN: Cleaning Compound, Rug and Upholstery,

7930-00-724-9556.

NPA: Lighthouse for the Blind, St. Louis, Missouri.

Contract Activity: GSA, Southwest Supply Center, Fort Worth, Texas.

Product/NSN: Detergent, General Purpose,

7930-00-282-9700.

NPA: Lighthouse for the Blind, St. Louis, Missouri.

Contract Activity: GSA, Southwest Supply Center, Fort Worth, Texas.

Product/NSN: Enamel,

8010-01-333-0916.

NPA: Lighthouse for the Blind, St. Louis, Missouri.

Contract Activity: GSA, Hardware & Appliances Center, Kansas City, Missouri.

Product/NSN: Net, Laundry,

3510-00-841-8376,

3510-00-841-8384.

NPA: Industries of the Blind, Inc., Greensboro, North Carolina.

Contract Activity: GSA, Southwest Supply Center, Fort Worth, Texas.

Product/NSN: Soap, Toilet,

8520-00-141-2519.

NPA: Lighthouse for the Blind, St. Louis, Missouri.

Contract Activity: GSA, Southwest Supply Center, Fort Worth, Texas.

Sheryl D. Kennerly,
Director, Information Management.

[FR Doc. 04-20999 Filed 9-16-04; 8:45 am]

BILLING CODE 6353-01-P